DEPARTMENT OF COMMERCE

Foreign-Trade Zones Board

[Docket 20-2004]

Foreign-Trade Zone 40—Cleveland, OH, Area Application for Expansion and Reorganization

An application has been submitted to the Foreign-Trade Zones (FTZ) Board (the Board), by the Cleveland-Cuyahoga County Port Authority, grantee of Foreign-Trade Zone 40, requesting authority to expand and reorganize its zone in the Cleveland, Ohio, area, within the Cleveland Customs port of entry. The application was submitted pursuant to the provisions of the Foreign-Trade Zones Act, as amended (19 U.S.C. 81a-81u), and the regulations of the Board (15 CFR part 400). It was formally filed on May 5, 2004.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97); June 1999 (Board Order 1040, 64 FR 33242, 6/22/99); April 2002 (Board Order 1224, 67 FR 20087, 4/15/02); August 2003 (Board Order 1289, 68 FR 52384, 9/3/03; Board Order 1290, 68 FR 52384, 9/3/03; and, Board Order 1295, 68 FR 52383, 9/3/03); and, March 2004 (Board Order 1320, 69 FR 13283, 3/22/04 and Board Order 1322, 69 FR 17642, 4/5/04).

The general-purpose zone project currently consists of the following sites in the Cleveland, Ohio, area: Site 1 consists of 1,339 acres in Cleveland, which includes the Port of Cleveland complex (Site 1A-94 acres), the Cleveland Bulk Terminal (Site 1B-45 acres), and the Tow Path Valley Business Park (Site 1C-1,200 acres); Site 2 (175 acres)—the IX Center in Brook Park, adjacent to Cleveland Hopkins International Airport; Site 3 consists of 2,243 acres, which includes the Cleveland Hopkins International Airport Complex (Site 3A-1,727 acres), the Snow Road Industrial Park in Brook Park (Site 3B-42 acres), and the Brook Park Road Industrial Park (Site 3C-322 acres) in Brook Park; Site 4 (450 acres)—Burke Lakefront Airport, 1501 North Marginal Road, Cleveland; Site 5 (298 acres)—Emerald Valley Business Park, Cochran Road and Beaver Meadow Parkway, Glenwillow; Site 6 (17 acres)—within the Collinwood Industrial Park, South Waterloo (South Marginal) Road and East 152nd Street, Cleveland; Site 7 consists of 193 acres in Strongsville, which includes the Strongsville Industrial Park (Site 7A-174 acres) and the Progress Drive Business Park (Site 7B-19 acres); Site 8 (13 acres)—East 40th Street between Kelley & Perkins Avenues (3830 Kelley Avenue), Cleveland; Site 9 (4 acres)—within the Frane Properties Industrial Park, 2399 Forman Road, Morgan Township; Site 10 (60 acres)—within the Solon Business Park, Solon; Site 11 (170 acres, 2 parcels)—within the 800-acre Harbour Point Business Park, Baumhart Road, at the intersections of U.S. Route 6 and Ohio Route 2, Vermilion; and, Temporary Site (11 acres)—3 warehouse locations: 29500 Solon Road (250,000 sq. ft.), 30400 Solon Road (110,000 sq. ft.), and 31400 Aurora Road (117,375 sq. ft.) located within the Solon Business Park in Solon (expires 4/1/05). Applications are pending with the FTZ Board to expand FTZ 40 to include the Cleveland Business Park (Site 3) in Cleveland (Docket 54-2003) and a site at the Broad Oak Business Park (Proposed Site 12) in the Village of Oakwood, Ohio (Docket 19-2004).

The applicant is now requesting authority to expand Site 10 at the Solon Business Park in Solon to include the temporary site of 11 acres on a permanent basis and an additional 47 acres within the park (total acreage—118 acres, 3 parcels) and to expand Site 7B at the Progress Drive Business Park in Strongsville to include two additional parcels located at 12200 Alameda Parkway (9 acres) and at 20770 Westwood Drive (20 acres) (total acreage—48 acres). No specific manufacturing authority is being requested at this time. Such requests would be made to the Board on a case-by-case basis.

The applicant is also requesting redesignation of the general-purpose zone sites as follows:

—Site 1 would remain unchanged.

—Existing Site 2 and Site 3 would be combined to become Site 2 as follows: Site 2A—Cleveland Hopkins International Airport; Site 2B—International Exhibition Center (I-X) Center; Site 2C—Snow Road Industrial Park; and, Site 2D—Brook Park Road Industrial Park (total—2,266 acres). This site would also include the proposed site for Cleveland Business Park (Docket 54-2003).

—Existing Site 4 (Burke Lakefront Airport) would become Site 3.

—Existing Site 5 and Site 10 would be combined to become Site 4 as follows: Site 4A—Emerald Valley Business Park and Site 4B—Solon Business Park (total—358 acres). This site would also include the proposed expansion of the Solon Business Park as noted in the above paragraph.

—Existing Site 6 (Collinswood Industrial Park) would become Site 5.

—Existing Site 7 would now become Site 6 as follows: Site 6A—Strongsville Industrial Park and Site 6B—Progress Drive Business Park (total—193 acres). This site would also include the proposed expansion of Progress Drive Business Park as noted in the above paragraph.

—Existing Site 8 (located at 3830 Kelley Avenue) would become Site 7.

—Existing Site 9 (Frane Properties Industrial Park) would become Site 8.

—Existing Site 11 (Harbour Point Business Park) would become Site 9.

—Proposed Site 12 (Broad Oak Business Park) (if approved) would become Site 10.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building, Suite 4100W, 1099 14th Street, NW., Washington, DC 20005; or,

2. Submissions via the U.S. Postal Service: Foreign-Trade Zones Board, U.S. Department of Commerce, FCB, Suite 4100W, 1401 Constitution Avenue, NW., Washington, DC 20230.

The closing period for their receipt is July 12, 2004. Rebuttal comments in response to material submitted during the foregoing period may be submitted during the subsequent 15-day period (to July 26, 2004).

A copy of the application and accompanying exhibits will be available during this time for public inspection at address Number 1 listed above, and at the U.S. Department of Commerce Export Assistance Center, 600 Superior Avenue East, Suite 700, Cleveland, OH 44114.

Dated: May 5, 2004.
Dennis Puccinelli,
Executive Secretary.

[FR Doc. 04-10771 Filed 5-11-04; 8:45 am]

BILLING CODE 3510-DS-P